FEDERAL ELECTION COMMISSION

Sunshine Act Meetings

Agency: Federal Election Commission.

Date And Time: Thursday, August 17, 2017 at 10:00 a.m.

Place: 999 E Street NW., Washington, DC (Ninth Floor).

Status: This meeting was open to the public.

Federal Register Notice of Previous Announcement—82 FR 37857.

The following item was also discussed:

Draft Advisory Opinion 2017-08: Point Bridge Capital, LLC

Person to Contact for Information: Judith Ingram, Press Officer, Telephone: (202) 694-1220.

Dayna C. Brown,
Secretary and Clerk of the Commission.

[FR Doc. 2017-18116 Filed 8-23-17; 11:15 am]

BILLING CODE 6715-01-P